DEPARTMENT OF LABOR

Employment and Training Administration

Job Corps Center Proposal for Deactivation: Comments Requested; Withdrawal

AGENCY: Office of Job Corps, Employment and Training Administration (ETA), Labor.

ACTION: Notice of withdrawal.

SUMMARY: The Employment and Training Administration of the U.S. Department of Labor (DOL) is withdrawing its previously published Federal Register notice proposing the deactivation of nine Job Corps Civilian Conservation Centers (CCCs) using a fourth closure criterion—program reform and streamlining operations.

DATES: The notice published on May 30, 2019 (84 FR 25071), is withdrawn as of June 27, 2019.

FOR FURTHER INFORMATION CONTACT: Debra Carr, Acting National Director, Office of Job Corps, ETA, U.S. Department of Labor, 200 Constitution Avenue NW, Room N-4463, Washington, DC 20210; Telephone (202) 693-3000 (this is not a toll-free number). Individuals with hearing or speech impairments may access the telephone number above via TTY by calling the toll-free Federal Information Relay Service at (877) 889-5627 (TTY/TDD).

SUPPLEMENTARY INFORMATION:

I. Background

On May 30, 2019, DOL published a notice in the Federal Register proposing the deactivation of nine CCCs; specifically, Anaconda CCC in Anaconda, Montana; Blackwell CCC in Laona, Wisconsin; Cass CCC in Ozark, Arkansas; Flatwoods CCC in Coeburn, Virginia; Fort Simcoe CCC located in White Swan, Washington; Frenchburg CCC in Frenchburg, Kentucky; Oconaluftee CCC located in Cherokee, North Carolina; Pine Knot CCC in Pine Knot, Kentucky; and Timber Lake CCC located in Estacada, Oregon (84 FR 25071). DOL is withdrawing the May 30, 2019, deactivation proposal as published in the Federal Register at https://www.federalregister.gov/documents/2019/05/30/2019-11262/job-corps-center-proposal-for-deactivation-comments-requested. This withdrawal is made in consideration of the U.S. Department of Agriculture's June 19, 2019 expressed intent to retain its role in operating CCCs to allow management the opportunity to determine a path that will maximize opportunity and results for students, minimize disruptions, and improve overall performance and integrity of the CCCs.

Signed in Washington, DC.
Molly E. Conway,
Acting Assistant Secretary for Employment and Training.

[FR Doc. 2019-13735 Filed 6-24-19; 4:15 pm]

BILLING CODE 4510-FT-P